DEPARTMENT OF TRANSPORTATION

Federal Aviation Administration

14 CFR Part 39

[Docket No. FAA-2016-6123; Directorate Identifier 2016-CE-007-AD; Amendment 39-18690; AD 2016-22-01]

RIN 2120-AA64

Airworthiness Directives; Schempp-Hirth Flugzeugbau GmbH Gliders

AGENCY: Federal Aviation Administration (FAA), Department of Transportation (DOT).

ACTION: Final rule.

SUMMARY: We are adopting a new airworthiness directive (AD) for Schempp-Hirth Flugzeugbau GmbH Models Discus-2a, Discus-2b, Discus-2c, Discus 2cT, Ventus-2a, and Ventus-2b gliders. This AD results from mandatory continuing airworthiness information (MCAI) issued by an aviation authority of another country to identify and correct an unsafe condition on an aviation product. The MCAI describes the unsafe condition insufficient overlap of the airbrake panels. We are issuing this AD to correct the unsafe condition on these products.

DATES: This AD is effective December 1, 2016.

The Director of the Federal Register approved the incorporation by reference of certain publications listed in the AD as of December 1, 2016.

ADDRESSES: You may examine the AD docket on the Internet at http://www.regulations.gov by searching for and locating Docket No. FAA-2016-6123; or in person at Document Management Facility, U.S. Department of Transportation, Docket Operations, M-30, West Building Ground Floor, Room W12-140, 1200 New Jersey Avenue SE., Washington, DC 20590.

For service information identified in this AD, contact Schempp-Hirth Flugzeugbau GmbH, Krebenstrasse 25, 73230 Kirchheim/Teck, Germany; telephone: +49 7021 7298-0; fax: +49 7021 7298-199; email: info@schempp-hirth.com; Internet: http://www.schempp-hirth.com. You may view this referenced service information at the FAA, Small Airplane Directorate, 901 Locust, Kansas City, Missouri 64106. For information on the availability of this material at the FAA, call (816) 329-4148. It is also available on the Internet at http://www.regulations.gov by searching for Docket No. FAA-2016-6123.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Discussion

We issued a notice of proposed rulemaking (NPRM) to amend 14 CFR part 39 by adding an AD that would apply to Schempp-Hirth Flugzeugbau Model Discus-2a, Discus-2b, Discus-2c, Discus 2cT, Ventus-2a, and Ventus-2b gliders. The NPRM was published in the Federal Register on April 27, 2016 (81 FR 24743). The NPRM proposed to correct an unsafe condition for the specified products and was based on mandatory continuing airworthiness information (MCAI) originated by an aviation authority of another country. The MCAI states:

Operational experience shows that, under certain conditions, the overlap between the two airbrake panels can be insufficient and the panels can interlock.

This condition, if not corrected, could lead to blockage of the airbrakes, possibly resulting in reduced control of the (powered) sailplane.

To address this potential unsafe condition, Schempp-Hirth Flugzeugbau GmbH issued TN 349-39, 360-29, 825-55 and 863-22 (single document, hereafter referred to as `the TN' in this AD), to provide inspection instructions to verify the correct overlap between the two affected airbrake panels.

For the reason described above, this AD requires a one-time inspection of the overlap of the affected airbrake panels and, depending on findings, accomplishment of applicable corrective action(s).

The MCAI can be found in the AD docket on the Internet at: https://www.regulations.gov/document?D=FAA-2016-6123-0002.

Comments

We gave the public the opportunity to participate in developing this AD. The following presents the comments received on the proposal and the FAA's response to each comment.

Request for Pilot-Owner To Conduct Inspection

Glenn Yeldezian commented that the EASA AD mandated the use of a Schempp-Hirth Technical Note that allowed for the pilot-owner to accomplish the inspection. The commenter requested that the FAA AD include this option for the pilot-owner to accomplish the inspection or, alternately, asked whether the revised Technical Note is enough justification for the pilot-owner to perform the inspection.

We do not agree with allowing pilot-owner to do this inspection. The U.S. regulatory system will not allow a pilot-owner to accomplish inspections on their gliders in accordance with Title 14 Code of Federal Regulations (CFR) part 43. Therefore, we will not revise the AD to account for the allowance in the foreign AD for the pilot-owner to accomplish the specified inspections.

Conclusion

We reviewed the relevant data, considered the comment received, and determined that air safety and the public interest require adopting the AD as proposed except for minor editorial changes. We have determined that these minor changes:

• Are consistent with the intent that was proposed in the NPRM for correcting the unsafe condition; and

• Do not add any additional burden upon the public than was already proposed in the NPRM.

Related Service Information Under 1 CFR Part 51

We reviewed Schempp-Hirth Flugzeugbau GmbH Technical Note No. 349-39, 360-29, 825-55, 863-22; dated January 29, 2016 (published as a single document), and Arbeitsanweisung (English translation: Working instructions) for Technische Mitteilung Nr. (English translation: Technical Note No.) 349-39, 360-29, 825-55, 863-22, Ausgabe (English translation: Issue) 1, Datum (English translation: Dated) January 22, 2016 (published as a single document). In combination, this service information describes procedures for inspection of the overlap of the airbrake panels and, if necessary, replacement of the airbrake panels. This service information is reasonably available because the interested parties have access to it through their normal course of business or by the means identified in the ADDRESSES section of the AD.

Costs of Compliance

We estimate that this AD will affect 86 products of U.S. registry. We also estimate that it would take about 2 work-hours per product to comply with the basic requirements of this AD.

Based on these figures, we estimate the cost of this AD on U.S. operators to be $14,620, or $170 per product.

In addition, we estimate that any necessary follow-on actions would take about 4 work-hours and require parts costing $100, for a cost of $440 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating Docket No. FAA-2016-6123; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2016-22-01 Schempp-Hirth Flugzeugbau: Amendment 39-18690; Docket No. FAA-2016-6123; Directorate Identifier 2016-CE-007-AD.

(a) Effective Date

This airworthiness directive (AD) becomes effective December 1, 2016.

(b) Affected ADs

None.

(c) Applicability

This AD applies to the following Schempp-Hirth Flugzeugbau GmbH model and serial number gliders, certificated in any category:

(1) Model Discus-2a, serial numbers 1 through 253;

(2) Model Discus-2b, serial numbers 1 through 255;

(3) Model Discus-2c, serial numbers 1 through 61;

(4) Model Discus 2cT, serial numbers 1 through 127;

(5) Model Ventus-2a, serial numbers 1 through 178; and

(6) Model Ventus-2b, serial numbers 1 through 175.

(d) Subject

Air Transport Association of America (ATA) Code 27: Flight Controls.

(e) Reason

This AD was prompted by mandatory continuing airworthiness information (MCAI) originated by an aviation authority of another country to identify and correct an unsafe condition on an aviation product. The MCAI describes the unsafe condition as insufficient overlap of the airbrake panels. We are issuing this proposed AD to require actions to address the unsafe condition on these products. We are issuing this AD to prevent interlocking of the airbrake panels, which could lead to blockage of the airbrakes and possible loss of control.

(f) Actions and Compliance

Unless already done, do the following actions in paragraphs (f)(1) and (2) of this AD:

(1) Within the next 40 days after December 1, 2016 (the effective date of this AD), inspect the overlap of the airbrake panels for a minimum overlap of at least 3 millimeters following Action 1 in Schempp-Hirth Flugzeugbau GmbH Technische Mitteilung Nr. (English translation: Technical Note No.) 349-39, 360-29, 825-55, 863-22, dated January 29, 2016 (published as a single document); and Action 1 in the associated Arbeitsanweisung (English translation: Working instructions) for Technische Mitteilung Nr. (English translation: Technical Note No.) 349-39, 360-29, 825-55, 863-22, Ausgabe (English translation: Issue) 1, Datum (English translation: Dated) January 22, 2016 (published as a single document).

Note 1 to paragraph (f)(1) and (2) of this AD: This service information contains German to English translation. The EASA used the English translation in referencing the document. For enforceability purposes, we will refer to the Schempp-Hirth Flugzeugbau GmbH service information as it appears on the document.

(2) If, during the inspection required in paragraph (f)(1) of this AD, the overlap on the airbrake panels is found to be less than 3 millimeters, before further flight, install eccentric bushings and make adjustments following Action 2 in Schempp-Hirth Flugzeugbau GmbH Technische Mitteilung Nr. (English translation: Technical Note No.) 349-39, 360-29, 825-55, 863-22, dated January 29, 2016 (published as a single document); and Action 2 in the associated Arbeitsanweisung (English translation: Working instructions) for Technische Mitteilung Nr. (English translation: Technical Note No.) 349-39, 360-29, 825-55, 863-22, Ausgabe (English translation: Issue) 1, Datum (English translation: Dated) January 22, 2016 (published as a single document).

Note 2 to paragraph (f)(2) of this AD: The Schempp-Hirth Flugzeugbau GmbH Technische Mitteilung Nr. (English translation: Technical Note No.) 349-39, 360-29, 825-55, 863-22, dated January 29, 2016 (published as a single document) includes four German language drawings that you may use for additional information, but the drawings are not required to comply with this AD.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2016-0027, dated February 9, 2016, for related information. The MCAI can be found in the AD docket on the Internet at: https://www.regulations.gov/document?D=FAA-2016-6123-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Schempp-Hirth Flugzeugbau GmbH Technische Mitteilung Nr. (English translation: Technical Note No.) 349-39, 360-29, 825-55, 863-22, dated January 29, 2016 (published as a single document); and

(ii) Arbeitsanweisung (English translation: Working instructions) for Technische Mitteilung Nr. (English translation: Technical Note No.) 349-39, 360-29, 825-55, 863-22, Ausgabe (English translation: Issue) 1, Datum (English translation: Dated) January 22, 2016 (published as a single document).

Note 3 to paragraph (i)(2) of this AD: This service information contains German to English translation. The EASA used the English translation in referencing the document. For enforceability purposes, we will refer to the Schempp-Hirth Flugzeugbau GmbH service information as it appears on the document.

(3) For Schempp-Hirth Flugzeugbau GmbH service information identified in this AD, contact Schempp-Hirth Flugzeugbau GmbH, Krebenstrasse 25, 73230 Kirchheim/Teck, Germany; telephone: +49 7021 7298-0; fax: +49 7021 7298-199; email: info@schempp-hirth.com; Internet: http://www.schempp-hirth.com.

(4) You may view this service information at the FAA, Small Airplane Directorate, 901 Locust, Kansas City, Missouri 64106. For information on the availability of this material at the FAA, call (816) 329-4148. In addition, you can access this service information on the Internet at http://www.regulations.gov by searching for and locating Docket No. FAA-2016-6123.

(5) You may view this service information that is incorporated by reference at the National Archives and Records Administration (NARA). For information on the availability of this material at NARA, call 202-741-6030, or go to: http://www.archives.gov/federal-register/cfr/ibr-locations.html.

Issued in Kansas City, Missouri, on October 17, 2016.
Pat Mullen,
Acting Manager, Small Airplane Directorate, Aircraft Certification Service.

[FR Doc. 2016-25674 Filed 10-26-16; 8:45 am]

BILLING CODE 4910-13-P